SURFACE TRANSPORTATION BOARD

[Docket No. EP 290 (Sub-No. 4)]

Railroad Cost Recovery Procedures—Productivity Adjustment

AGENCY: Surface Transportation Board.

ACTION: Presentation of the Board's calculation for the change in railroad productivity for the 2014-2018 averaging period.

SUMMARY: In a decision served on February 6, 2020, the Board proposed to adopt 1.010 (1.0% per year) as the measure of average (geometric mean) change in railroad productivity for the 2014-2018 (five-year) period. This represents an increase of 0.5% from the average for the 2013-2017 period. The Board's February 6, 2020 decision in this proceeding stated that comments may be filed addressing any perceived data and computational errors in the Board's calculation. The decision also stated that, unless a further order is issued postponing the effective date, this decision will take effect on March 1, 2020.

DATES: Comments are due by February 21, 2020.

ADDRESSES: Comments may be filed with the Board either via e-filing or in writing addressed to: Surface Transportation Board, Attn: Docket No. EP 290 (Sub-No. 4), 395 E Street SW, Washington, DC 20423-0001. Comments must be served on all parties appearing on the service list.

FOR FURTHER INFORMATION CONTACT: Pedro Ramirez at (202) 245-0333. Assistance for the hearing impaired is available through the Federal Relay Service at (800) 877-8339.

SUPPLEMENTARY INFORMATION: The Board's decision is posted at http://www.stb.gov. Copies of the decision may be purchased by contacting the Board's Office of Public Assistance, Governmental Affairs, and Compliance at (202) 245-0238.

Authority: 49 U.S.C. 10708.

Decided: February 4, 2020.
By the Board, Board Members Begeman, Fuchs, and Oberman.
Eden Besera,
Clearance Clerk.

[FR Doc. 2020-02568 Filed 2-7-20; 8:45 am]

BILLING CODE 4915-01-P